DEPARTMENT OF DEFENSE

Office of the Secretary

National Commission on the Future of the Army; Notice of Federal Advisory Committee Meeting

AGENCY: Deputy Chief Management Officer, Department of Defense (DoD).

ACTION: Notice of federal advisory committee meeting.

SUMMARY: The DoD is publishing this notice to announce two days of meetings of the National Commission on the Future of the Army (“the Commission”). The meetings will be closed to the public.

DATES: Dates of the closed meetings: Thursday, October 15, 2015, from 8 a.m. to 5:30 p.m. and Friday, October 16, 2015, from 8 a.m. to 5:30 p.m.

ADDRESSES: Address of Closed Meetings, October 15 and 16, 2015: Institute for Defense Analyses, 4850 Mark Center Dr., Alexandria, VA 22311.

FOR FURTHER INFORMATION CONTACT: Mr. Don Tison, Designated Federal Officer, National Commission on the Future of the Army, 700 Army Pentagon, Room 3E406, Washington, DC 20310-0700, Email: dfo.public@ncfa.ncr.gov. Desk (703) 692-9099. Facsimile (703) 697-8242.

SUPPLEMENTARY INFORMATION: This meeting will be held under the provisions of the Federal Advisory Committee Act (FACA) of 1972 (5 U.S.C., Appendix, as amended), the Government in the Sunshine Act of 1976 (5 U.S.C. 552b, as amended), and 41 CFR 102-3.150.

Purpose of Meetings

During the closed meeting on Thursday, October 15, 2015, the Commission will be briefed on the classified war plan selected for analytical review, discuss the process and procedures for the conduct of the Classified Analytical Review and begin the Classified Analytical Review using classified war plans and operational scenarios to examine the size and structure options for the future of the Army.

During the closed meeting on Friday, October 16, 2015, the Commission will complete the Classified Analytical Review and discuss the results.

Agendas

October 15, 2015—Closed Meeting: The Commission will hold a closed meeting to conduct a classified analytical review using current war plans while applying predetermined variables to develop realistic results. Speakers include analysts from Institute for Defense Analyses (IDA), Center for Army Analysis, TRADOC Analysis Center, RAND Corporation. All presentations and resulting discussion are classified.

October 16, 2015—Closed Meeting: The Commission will complete the classified analytical review and discuss the results in a closed meeting. The results will be used in the development of recommendations for the final report due on February 1, 2016. Speakers include analysts from IDA, Center for Army Analysis, TRADOC Analysis Center, RAND Corporation. All presentations and resulting discussion are classified.

Meeting Accessibility

In accordance with applicable law, 5 U.S.C. 552b(c) and 41 CFR 102-3.155, the DoD has determined that the meetings scheduled for October 15 and 16, 2015, will be closed to the public. Specifically, the Assistant Deputy Chief Management Officer, with the coordination of the DoD FACA Attorney, has determined in writing that these two meetings will be closed to the public because they will discuss matters covered by 5 U.S.C. 552b(c)(1).

Written Comments

Pursuant to section 10(a)(3) of the FACA and 41 CFR 102-3.105(j) and 102-3.140, the public or interested organizations may submit written comments to the Commission in response to the stated agenda of the closed meetings or the Commission's mission. The Designated Federal Officer (DFO) will review all submitted written statements. Written comments should be submitted to Mr. Donald Tison, DFO, via facsimile or electronic mail, the preferred modes of submission. Each page of the comment must include the author's name, title or affiliation, address, and daytime phone number. All comments received before Wednesday, October 14, 2015, will be provided to the Commission before the October 15, 2015, meeting. Comments received after Wednesday, October 14, 2015, will be provided to the Commission before its next meeting. All contact information may be found in the FOR FURTHER INFORMATION CONTACT section.

Additional Information

The DoD sponsor for the Commission is the Deputy Chief Management Officer. The Commission is tasked to submit a report, containing a comprehensive study and recommendations, by February 1, 2016 to the President of the United States and the Congressional defense committees. The report will contain a detailed statement of the findings and conclusions of the Commission, together with its recommendations for such legislation and administrative actions it may consider appropriate in light of the results of the study. The comprehensive study of the structure of the Army will determine whether, and how, the structure should be modified to best fulfill current and anticipated mission requirements for the Army in a manner consistent with available resources.

Dated: September 25, 2015.
Aaron Siegel,
Alternate OSD Federal Register Liaison Officer, Department of Defense.

[FR Doc. 2015-24754 Filed 9-29-15; 8:45 am]

BILLING CODE 5001-06-P